DEPARTMENT OF HEALTH AND HUMAN SERVICES

Substance Abuse and Mental Health Services Administration

Fiscal Year (FY) 2003 Funding Opportunity

AGENCY: Substance Abuse and Mental Health Services Administration, HHS.

ACTION: Notice of funding availability for SAMHSA State Incentive Grants (COSIG) for Treatment of Persons with Co-Occurring Substance Related and Mental Disorders.

SUMMARY: The Substance Abuse and Mental Health Services Administration (SAMHSA), Center for Substance Abuse Treatment (CSAT) and Center for Mental Health Services (CMHS) announces the availability of FY 2003 funds for the grant program described below. A synopsis of this funding opportunity, as well as many other Federal Government funding opportunities, is also available at the Internet site: http://www.fedgrants.gov.

This notice is not a complete description of the program; potential applicants must obtain a copy of the Request for Applications (RFA), including Part I, State Incentive Grants (COSIG) for Treatment of Persons with Co-Occurring Substance Related and Mental Disorders, Part II, General Policies and Procedures Applicable to all SAMHSA Applications for Discretionary Grants and Cooperative Agreements, and the PHS 5161-1 (Rev. 7/00) application form before preparing and submitting an application.

Funding Opportunity Title: State Incentive Grants (COSIG) for Treatment of Persons with Co-Occurring Substance Related and Mental Disorders—Short Title: COSIG.

Funding Opportunity Number: TI 03-003.

Catalog of Federal Domestic Assistance (CFDA) Number: 93.243.

Authority: Section: 509 of the Public Health Service Act, as amended and subject to the availability of funds.

Funding Opportunity Description: The Substance Abuse and Mental Health Services Administration (SAMHSA), Center for Substance Abuse Treatment (CSAT), and Center for Mental Health Services (CMHS), are accepting applications for Fiscal Year 2003 grants to develop and enhance the infrastructure of States and their treatment service systems to increase the capacity to provide accessible, effective, comprehensive, coordinated/integrated, and evidence-based treatment services to persons with co-occurring substance abuse and mental health disorders, and their families.

Eligible Applicants: Only the immediate Office of the Governor of States may apply. State-level agencies are not considered to be part of the immediate Office of the Governor. This means, for example, that the State Mental Health or Substance Abuse Authorities or other State-level agencies within the Office of the Governor cannot apply independently. SAMHSA has limited the eligibility to Governors of States because the immediate Office of the Governor has the greatest potential to provide the multi-agency leadership needed to develop the State's infrastructure/treatment service systems to increase the State's capacity to provide accessible, effective, comprehensive, coordinated/integrated, and evidence-based services to persons with co-occurring substance abuse and mental health disorders, and their families.

As defined in the Public Health Service (PHS) Act, the term “State” includes all 50 States, the District of Columbia, Guam, the Commonwealth of Puerto Rico, the Northern Mariana Islands, the Virgin Islands, American Samoa, and the Trust Territory of the Pacific Islands. Applications from State agencies other than the Office of the Governor, or from government entities that do not meet the definition of “State,” are not eligible for funding and will not be reviewed.

Due Date for Applications: June 13, 2003.

Estimated Funding Available/Number of Awards: It is expected that $6.5 million will be available for 6 to 10 awards in FY 2003. The average annual award will range from $500,000 to $1.1 million in total costs (direct and indirect). Grantees in years 1-3 will receive up to $1.1 million per year. Grantees with service pilots will receive up to half of the third year award in the 4th year to phase down the services pilot and up to $100,000 for evaluation in year 5. Grantees without service pilots will receive up to $100,000 for evaluation in both years 4 and 5. Applications with proposed budgets that exceed these amounts in any year will be returned without review.

Is Cost Sharing Required: No.

Period of Support: Up to 5 years, with annual continuations depending on availability of funds and progress achieved.

How to Get Full Announcement and Application Materials: Complete application kits may be obtained from: the National Clearinghouse for Alcohol and Drug Information (NCADI) at 1-800-729-6686. The PHS 5161-1 application form and the full text of the funding announcement are also available electronically via SAMHSA's World Wide Web Home Page: http://www.samhsa.gov (Click on “Grant Opportunities”).

When requesting an application kit, the applicant must specify the funding opportunity title and number for which detailed information is desired. All information necessary to apply, including where to submit applications and application deadline instructions, are included in the application kit.

Contact for Additional Information: Richard E. Lopez, J.D., Ph.D., Substance Abuse and Mental Health Agency, Center for Substance Abuse Treatment, Division of State and Community Assistance, 5600 Fishers Lane/Rockwall II, Room 8-147, Rockville, MD 20857, (301) 443-7615, E-Mail: rlopez@samsha.gov.

Dated: April 10, 2003.
Richard Kopanda,
Executive Officer, Substance Abuse and Mental Health Services Administration.

[FR Doc. 03-9387 Filed 4-16-03; 8:45 am]

BILLING CODE 4162-20-P